RAILROAD RETIREMENT BOARD

Computer Matching and Privacy Protection Act of 1988; Records Used in Computer Matching Programs

AGENCY: Railroad Retirement Board (RRB).

ACTION: Notice of records used in computer matching programs notification to individuals who are receiving or have received benefits under the Railroad Unemployment Insurance Act.

SUMMARY: As required by the Computer Matching and Privacy Protection Act of 1988, the RRB is issuing a public notice of its use and intent to use, in ongoing computer matching programs, certain information obtained from State agencies with respect to individuals who received benefits under the Railroad Unemployment Insurance Act. The information may consist of either (1) report of unemployment or sickness payments made by the State for the same period that benefits were paid by the RRB or (2) wages and names and addresses of employers who reported wages to the State for the same period that benefits were paid by the RRB.

The purpose of this notice is to advise individuals applying for or receiving benefits under the Railroad Unemployment Insurance Act of the use made by the RRB of this information obtained from State agencies by means of a computer match.

DATES: Submit comments on or before February 16, 2010.

ADDRESSES: Address any comments concerning this notice to Beatrice Ezerski, Secretary to the Board, Railroad Retirement Board, 844 North Rush Street, Chicago, Illinois 60611-2092.

FOR FURTHER INFORMATION CONTACT: Mr. Timothy Grant, Railroad Retirement Board, 844 North Rush Street, Chicago, Illinois 60611-2092, telephone number (312) 751-4869.

SUPPLEMENTARY INFORMATION: Under certain circumstances, the Computer Matching and Privacy Protection Act of 1988, Public Law 100-503, requires a Federal agency participating in a computer matching program to publish a notice in the Federal Register regarding the establishment of that matching program. Such a notice must include information in the following first five categories:

Name of Participating Agencies: The Railroad Retirement Board and agencies of all 50 States.

Purpose of the Match: To identify individuals who have improperly collected benefits provided by the RRB while earning remuneration in non-railroad employment or while collecting unemployment or sickness benefits paid by a State agency.

Authority for Conducting the Match: 45 U.S.C. Sections 231(b) and 362(f) and 42 U.S.C. Section 503(c)(1).

Categories of Records and Individuals Covered: All recipients of benefits under the Railroad Unemployment Insurance Act during a given period who reside in the States with which the RRB has negotiated a matching program agreement. Records furnished by the States are covered under Privacy Act system of records RRB-21, Railroad Unemployment and Sickness Insurance Benefit System.

Inclusive Dates of the Matching Program: Agreements with the individual States will run for either 12 or 18 months. The number of matches conducted with each State during the period of the match will vary from State to State, ranging from 2 to 4 depending on whether the agreement provides for matches to be conducted quarterly or every six months.

Procedure: The RRB will furnish the State agency a file of records. The data elements will consist of beneficiary identifying information, such as the name and Social Security Number (SSN), as well as the overall period during which the individual received benefits under the Railroad Unemployment Insurance. The State agency will match on the identifying information.

If the matching operation reveals that the individual who had received benefits under the Railroad Unemployment Insurance Act also received either unemployment or sickness insurance benefits from the State for any days in the period, the State agency will notify the RRB. Depending on arrangements made between the two jurisdictions, and, in the case of State sickness benefits on the applicable State law, either the RRB or the State agency will attempt to recover the amount of the duplicate payments.

If the matching operation reveals that wages had been reported for the individual during the requested period, the State will notify the RRB of this fact and furnish a breakdown of the wages and the name and address of each employer who reported earnings for the individual. The RRB will then write each employer who reported earnings for the individual for the given period. Only if the employment is verified will the RRB take action to recover the overpayment. If the RRB benefits had been paid under the Railroad Unemployment Insurance Act, recovery is limited to payments made for days on which the individual was gainfully employed.

Other Information: The notice we are giving here is in addition to any individual notice.

A copy of this notice will be furnished to both Houses of Congress and the Office of Management and Budget.

Dated: December 9, 2009.
By Authority of the Board.
Beatrice Ezerski,
Secretary to the Board.

[FR Doc. E9-29766 Filed 12-14-09; 8:45 am]

BILLING CODE P